DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the name of 6 individuals and 1 entity whose property and interests in property have been blocked pursuant to the Foreign Narcotics Kingpin Designation Act (“Kingpin Act”) (21 U.S.C. 1901-1908, 8 U.S.C. 1182).

DATES: The designation by the Director of OFAC of the 6 individuals and 1 entity identified in this notice pursuant to section 805(b) of the Kingpin Act is effective on October 22, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 22, 2009, OFAC designated 6 individuals and 1 entity whose property and interests in property are blocked pursuant to section 805(b) of the Foreign Narcotics Kingpin Designation Act.

The list of additional designees is as follows:

Individuals

1. Leyva Escandon, Edgardo, Apt. 513, Calle Tampico, Colonia Cacho, Tijuana, Baja California, Mexico; DOB 17 Sep 1969; POB Tijuana, Baja California, Mexico; Citizen Mexico; Nationality Mexico; C.U.R.P. LEEE690917HBCYSD02 (Mexico); (Individual) [SDNTK]

2. Abaroa Diaz, Victor Manuel, c/o Tienda Marina Abaroa, La Paz, Baja California Sur, Mexico; C. Antonio Navarro S/N, Col. Centro, La Paz, Baja California Sur 23000, Mexico; DOB 30 May 1955; POB La Paz, Baja California Sur, Mexico; Citizen Mexico; Nationality Mexico; R.F.C. AADV550530UQ0 (Mexico); C.U.R.P. AADV550530HBSBZC00 (Mexico); (Individual) [SDNTK]

3. Abaroa Preciado, Aristoteles (a.k.a. ABAROA PRECIADO, Aristoteles Alejandro); La Paz, Baja California Sur, Mexico; DOB 29 Sep 1981; POB La Paz, Baja California Sur, Mexico; Citizen Mexico; Nationality Mexico; C.U.R.P. AAPA810929HBSBRR19 (Mexico); (Individual) [SDNTK]

4. Abaroa Preciado, Victor Hussein, C. Antonio Navarro S/N, La Paz, Baja California Sur 23000, Mexico; DOB 23 Jun 1978; POB La Paz, Baja California Sur, Mexico; Citizen Mexico; Nationality Mexico; C.U.R.P. AAPV780623HBSBRC09 (Mexico); (Individual) [SDNTK]

5. Preciado Gamez, Elia Yolanda, La Paz, Baja California Sur, Mexico; DOB 25 Feb 1954; POB Ahome, Sinaloa, Mexico; Citizen Mexico; Nationality Mexico; C.U.R.P. PEGE540225MSLRML03 (Mexico); (Individual) [SDNTK]

6. Abaroa Preciado, Rosa Yolanda Nabila, Ave. Mariano Abasolo S/N Barr, La Paz, Baja California Sur 23060, Mexico; DOB 19 May 1985; POB Baja California Sur, Mexico; Citizen Mexico; Nationality Mexico; C.U.R.P. AAPR850519MBSBRS00 (Mexico); Passport 05070005312 (Mexico); (Individual) [SDNTK]

Entity

1. Tienda Marina Abaroa (A.K.A. Materiales Y Refacciones Abaroa; A.K.A. Abaroa Fox Marine); Abasolo S/N, Col. El Manglito, La Paz, Baja California Sur 23060, Mexico; Leona Vicario 1000 E/Alvaro Obregon, Benito Juarez, Cabo San Lucas, Baja California Sur 23469, Mexico; R.F.C. AADV55053OUQO (Mexico); (Entity) [SDNTK]

Dated: October 22, 2009.
Adam J. Szubin,
Director, Office of Foreign Assets Control.

[FR Doc. E9-25898 Filed 10-27-09; 8:45 am]

BILLING CODE 4811-45-P